DEPARTMENT OF STATE

[Public Notice 8505]

Notice of Receipt of an Application by Magellan Pipeline Company, L.P., for Issuance of a Presidential Permit To Operate and Maintain Existing Pipeline Facilities on the Border of the United States and Mexico

October 18, 2013.

AGENCY: Department of State.

ACTION: Notice of Receipt of an Application by Magellan Pipeline Company, L.P., for Issuance of a Presidential Permit to Operate and Maintain Existing Pipeline Facilities on the Border of the United States and Mexico.

SUMMARY: Notice is hereby given that the Department of State (DOS) has received from Magellan Pipeline Company, L.P. (“Magellan”) notice that it has acquired the rights to operate and maintain pipeline facilities permitted under a 1995 Presidential Permit issued to Chevron Pipeline Company (“Chevron”). Magellan requests that a new or amended Presidential Permit be issued to it with respect to the pipeline facilities.

Magellan is a wholly-owned subsidiary of Magellan Midstream Partners, L. P. (“MMP”) and owns and operates a lengthy pipeline for the transportation of refined petroleum products that extends into 14 states along the Gulf Coast and through the middle part of the United States.

The permitted facilities consist of existing 2.75-mile 8.625-inch carbon steel pipelines that extend from El Paso, Texas to the U.S. boundary with Mexico.

Through corporate transactions, Chevron assigned the permit to Plains Pipeline L.P. (Plains). On July 1, 2013, Plains assigned its rights to the 1995 permit to NMPL LLC which was subsequently merged into Magellan.

Magellan affirms that the operation and maintenance of the permitted facilities authorized by the 1995 Permit will remain substantially the same, and it is not seeking authorization for new construction or a change in operations.

Under E.O. 13337 the Secretary of State is designated and empowered to receive all applications for Presidential Permits for the construction, connection, operation, or maintenance at the borders of the United States, of facilities for the exportation or importation of liquid petroleum, petroleum products, or other fuels (except natural gas) to or from a foreign country. The Department of State is circulating this application to concerned federal agencies for comment. The Department of State has the responsibility to determine whether issuance of a new or amended Presidential Permit in light of Magellan's acquisition of the pipeline facilities would be in the U.S. national interest.

DATES: Interested parties are invited to submit comments within 30 days of the publication date of this notice by email to MagellanPipelinePermit@state.gov mailto: With regard to whether issuing a new Presidential Permit reflecting the corporate succession would be in the national interest. The application is available at http://www.state.gov/e/enr.

FOR FURTHER INFORMATION CONTACT: Office of Energy Diplomacy, Energy Resources Bureau (ENR/EDP/EWA) Department of State 2201 C St. NW., Ste. 4843, Washington DC 20520 Attn: Michael Brennan Tel: 202-647-7553.

Dated: October 18, 2013.
Michael Brennan,
Energy Officer, Office of Europe, Western Hemisphere and Africa, Bureau of Energy Resources, U.S. Department of State.

[FR Doc. 2013-25009 Filed 10-23-13; 8:45 am]

BILLING CODE 4710-09-P